DEPARTMENT OF EDUCATION

[Docket No.: ED-2021-SCC-0055]

Agency Information Collection Activities; Comment Request; Gaining Early Awareness and Readiness for Undergraduate Programs (GEAR UP) Match Waiver Request Form

Correction

In notice document 2021-06935 appearing on pages 17373 through 17374 in the issue of Friday, April 2, 2021, make the following correction:

On page 17373, in the third column, in the ninth and tenth lines down, change “April 8, 2021” to read “June 1, 2021.”

[FR Doc. C1-2021-06935 Filed 4-29-21; 8:45 am]

BILLING CODE 0099-10-D